DEPARTMENT OF AGRICULTURE

Submission for OMB Review; Comment Request

The Department of Agriculture has submitted the following information collection requirement(s) to Office of Management and Budget (OMB) for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by December 1, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Request for Approval to Sell Capital Assets.

OMB Control Number: 0572-0020.

Summary of Collection: The Rural Utilities Service (RUS) is a credit agency of the U.S. Department of Agriculture (USDA). It makes mortgage loans and loan guarantees to finance electric, telecommunications, and water and waste facilities in rural areas. In addition to providing loans and loan guarantees, one of RUS' main objectives is to safeguard loan security until the loan is repaid. Accordingly, RUS manages loan programs in accordance with the Rural Electrification Act of 1936, 7 U.S.C. 901 et.seq., as amended, (RE ACT) and as prescribed by Office of Management and Budget (OMB) Circular A-129, Policies for Federal Credit Programs and Non-Tax Receivables, which states that agencies must, based on a review of a loan application, determine that an applicant complies with statutory, regulatory, and administrative eligibility requirements for loan assistance.

Need and Use of the Information: RUS borrower will use form 369, Request for Approval to Sell Capital Assets, to seek agency permission to sell some of its assets. The form is used to collect detailed information regarding the proposed sale of a portion of the borrowers systems. RUS will collect information to determine whether or not the agency should approve a sale and also to keep track of what property exists to secure the loan. If the information in Form 369 is not collected when capital assets are sold, the capital assets securing the Government's loans could be liquidated and the Government's security either eliminated entirely or diluted to an undesirable level.

Description of Respondents: Not-for-profit institutions; business or other for-profit.

Number of Respondents: 33.

Frequency of Responses: Recordkeeping; reporting: On occasion; quarterly.

Total Burden Hours: 165.

Rural Utilities Service

Title: 7 CFR 1744-C, Advance and Disbursement of Funds—Telecommunications.

OMB Control Number: 0572-0023.

Summary of Collection: Section 201 of the Rural Electrification Act (RE Act) of 1936 authorizes the Administrator of the Rural Utilities Service (RUS) to make loans for the purpose of providing telephone service to the widest practicable number of rural subscribers. Title VI, Rural Broadband Access, of the RE Act authorizes RUS to provide loans and loan guarantee to fund the cost of construction, improvement, or acquisition facilities and equipment for the provision of broadband service in eligible rural communities.

RUS Form 481, “Financial Requirement Statement,” must be submitted by the borrower to request loan advances. A supplemental sheet to Form 481 (a continuation sheet) may be used by borrowers needing additional space. The Form 481 is used by RUS to record and control transactions in the construction fund. Upon receipt of the Form 481 and its accompanying documents complying with provisions of 7 CFR part 1744, subpart c, the Government, within a reasonable amount of time, will make and advance to the borrower a sufficient amount for the purposes specified in the statement of purposes. The borrower must immediately deposit all advanced money into a Special Construction account until disbursed.

Need and Use of the Information: The information collected is used by RUS to record and control transactions and verify that the funds advanced in the construction fund are related directly to loan purposes. If the information were not collected, RUS would not have any control over how loan funds are spent or a record of the balance to be advanced.

Description of Respondents: Business or other for-profit; not-for-profit institutions.

Number of Respondents: 38.

Frequency of Responses: Reporting: annually.

Total Burden Hours: 616.

Rural Utilities Service

Title: 7 CFR 1730, Review Rating Summary.

OMB Control Number: 0572-0025.

Summary of Collection: USDA Rural Development administers rural utilities programs through the Rural Utilities Service (RUS or Agency) and manages loan programs in accordance with the Rural Electrification Act (RE Act) of 1936, 7 U.S.C. 901 et seq., as amended. One of the Agency's main objectives is to safeguard loan security by seeing that Agency financed facilities are being responsibly used, adequately operated, and adequately maintained. Future needs must be anticipated to ensure that facilities will continue to produce revenue and loans will be repaid as required by the Agency mortgage or loan agreement. A periodic operations and maintenance (O&M) review, using the RUS Form 300, Review Rating Summary, in accordance with 7 CFR part 1730, Electric System Operations and Maintenance, is an effective means for RUS to determine whether the Borrowers' systems are being properly operated and maintained, thereby protecting the loan collateral as prescribed by the Office of Management and Budget (OMB) Circular A-129, Policies for Federal Credit Programs and Non-Tax Receivables.

Need and Use of the Information: RUS will collect information using form 300 Review Rate Summary to identity items that may be in need of additional attention; to plan corrective actions when needed; to budget funds and manpower for needed work; and to initiate ongoing programs as necessary to avoid or minimize the need for “catch-up” programs.

Description of Respondents: Not-for-profit institutions; business or other for-profit.

Number of Respondents: 151.

Frequency of Responses: Reporting: On occasion; annually.

Total Burden Hours: 604.

Rural Utilities Service

Title: Operating Reports for Telecommunications and Broadband Borrowers.

OMB Control Number: 0572-0031.

Summary of Collection: Rural Utilities Service (RUS), an agency delivering the U.S. Department of Agriculture Rural Development Utilities Programs, hereinafter referred to as RUS or the Agency, is a credit agency of the USDA. It makes loans and loan guarantees to finance electric, broadband, telecommunications, and water and waste facilities in rural areas. In addition to providing loans and loan guarantees, one of the main RUS objectives is to safeguard loan security until the loan is repaid. Section 201 of the Rural Electrification Act of 1936, as amended (RE Act) (7 U.S.C. 901 et seq.) authorizes that “the Secretary is authorized and empowered to make loans to persons now providing or who may hereafter provide telephone service in rural areas . . . for the purposes of financing the improvement, expansion, construction, acquisition, and operation of telephone lines, facilities or systems to furnish and improve telephone service in rural areas.” Similarly, section 601(c)(1) states that “the Secretary shall make or guarantee loans to eligible entities . . . to provide funds for the construction, improvement, or acquisition of facilities and equipment for the provision of broadband service in eligible rural communities.”

Need and Use of the Information: Information from the Operating Report for both telecommunication and broadband borrowers provides RUS with vital financial information needed to ensure the maintenance of the security for the Government's loans and service data which enables RUS to ensure the provision of quality telecommunications and broadband service as mandated by the RE Act of 1936. Form 674, “Certificate of Authority to Submit or Grant Access to Data” will allow telecommunication and broadband borrowers to file electronic Operating Reports with the agency using the new USDA Data Collection System. Accompanied by a Board Resolution, it will identify the name and USDA e-Authentication ID for a certifier and security administrator that will have access to the system for purposes of filing electronic Operating Reports.

Description of Respondents: Business or other for-profit; not-for-profit institutions.

Number of Respondents: 242.

Frequency of Responses: Reporting: On occasion.

Total Burden Hours: 6,711.

Rural Utilities Service

Title: Request for Release of Lien and/or Approval of Sale.

OMB Control Number: 0572-0041.

Summary of Collection: The Rural Utilities Service (RUS) is a financing agency of the U.S. Department of Agriculture (USDA). RUS makes mortgage loans and loan guarantees to finance electric, telecommunications, and water and waste facilities in rural areas. RUS manages loan programs in accordance with the Rural Electrification Act of 1936, 7 U.S.C. 901 et seq., as amended (RE Act). Section 201 of the RE Act provides that loan shall not be made unless RUS finds and certifies that the security for the loan is reasonably adequate and that the loans will be repaid within the time agreed. In addition to providing loans and loan guarantees, one of RUS's main objectives is to safeguard loan security until the loan is repaid. This objective is in accordance with OMB Circular No. A-129, “Policies for Federal Credit Programs and Non-Tax Receivables,” which states that agencies must, based on a review of a loan application, determine that an applicant complies with statutory, regulatory, and administrative eligibility requirements for loan assistance, and should follow sound financial practices in the administration of credit programs and protect the value of the government's assets.

Need and Use of the Information: A borrower's assets provide the security for a government loan. The selling of assets reduces the security and increases the risk of loss to the Government. A borrower seeking permission to sell some of its assets uses RUS Form 793. The form contains detailed information regarding the proposed sale. If the information in Form 793 is not collected when capital assets are sold, the capital assets securing the Government's loans could be liquidated and the Government's security either eliminated entirely or diluted to an undesirable level. This increases the risk of loss to the Government in the case of a default.

Description of Respondents: Businesses or other for-profits: Not-for-profit institutions.

Number of Respondents: 30.

Frequency of Responses: Reporting: Annually.

Total Burden Hours: 231.

Rural Utilities Service

Title: Certification of Authority, RUS Form 675.

OMB Control Number: 0572-0074.

Summary of Collection: The Rural Utilities Service manages loan programs in accordance with the Rural Electrification Act of 1936, as amended (7 U.S.C. 901et seq.) (RE Act). A major factor in managing loan programs is controlling the advance of funds, including assuring that actual borrowers receive their funds. The OMB Circular A-123, Management Accountability and Control, provides that information should be maintained on a current basis and that funds should be protected from unauthorized use. The use of RUS Form 675 allows effective control against unauthorized release of funds by providing a list of authorized borrower signatures against which signatures requesting funds are compared. The Form 675 allows borrowers to keep RUS up to-date of changes in signature authority and controls release of funds only to authorized borrower representatives.

Need and Use of the Information: RUS will collect information to ensure that only authorized representatives of the borrower signs the lending requisition form. Without the information RUS would not know if the request for a loan advance was legitimate or not and the potential for waste, loss, unauthorized use, and misappropriation would be increased.

Description of Respondents: Not-for-profit institutions; Business or other for-profit.

Number of Respondents: 176.

Frequency of Responses: Reporting: On occasion.

Total Burden Hours: 18.

Rural Utilities Service

Title: Preloan Procedures and Requirements for Telecommunications Program.

OMB Control Number: 0572-0079.

Summary of Collection: USDA, Rural Utilities Service (RUS) makes mortgage loans and loan guarantees to finance telecommunications, electric, and water and waste facilities in rural areas with a loan portfolio that totals more than $58 billion. In addition to providing loans and loan guarantees, one of the objectives of RUS is to safeguard loan security until the loan is repaid. Accordingly, RUS manages loan programs in accordance with the Rural Electrification Act of 1936, 7 U.S.C. 901 et seq., as amended, (RE Act), and as prescribed by Office of Management and Budget (OMB) Circular A-129, Policies for Federal Credit Programs and Non-Tax Receivables, which states that based on a review of a loan application, agencies must determine that an applicant complies with statutory, regulatory, and administrative eligibility requirements for loan assistance. Section 201 of the RE Act authorizes the RUS Administrator to make loans to qualified telephone companies for providing telephone service to the widest practicable number of rural subscribers. The reporting burden covered by this collection of information consists of forms, documents and written burden to support a request for funding for a Telecommunications Infrastructure loan.

Need and Use of the Information: RUS will collect information using several forms to determine an applicant's eligibility to borrow from RUS under the terms of the RE Act. The information is also used to determine that the Government's security for loans made by RUS are reasonably adequate and that the loans will be repaid within the time agreed. Without the information, RUS could not effectively monitor each borrower's compliance with the loan terms and conditions to properly ensure continued loan security.

Description of Respondents: Business or other for-profit; not-for-profit institutions.

Number of Respondents: 43.

Frequency of Responses: Reporting: Once.

Total Burden Hours: 11,445.

Rural Utilities Service

Title: 7 CFR part 1786, Prepayment of RUS Guaranteed and Insured Loans to Electric and Telephone Borrowers.

OMB Control Number: 0572-0088.

Summary of Collection: The Rural Electrification (RE) Act of 1936, as amended, authorizes and empowers the Administrator of RUS to make loans in the States and Territories of the United States for rural electrification and furnishing and improving electric and telephone service in rural areas and to assist electric borrowers to implement demand side management, energy conservation programs, and on-grid and off-grid renewable energy systems. The RE Act also authorizes and empowers the Administrator of RUS to provide financial assistance to borrowers for purposes provided in the RE Act by guaranteeing loans made by the National Rural Utilities Cooperative Finance Corporation, the Federal Financing Bank (FFB), and other lending agencies.

This information collection package contains the paperwork and reporting burden for 7 CFR part 1786, subpart E, “Discounted Prepayments on RUS Notes in the Event of a Merger of Certain RUS Electric Borrowers,” subpart F, “Discounted Prepayments on RUS Electric Loans,” and subpart G, “Refinancing and Prepayment of RUS Guaranteed FFB Loans Pursuant to Section 306(C) of the RE Act.” 7 CFR 1786, subparts E and F are authorized by section 306(B) of the RE Act of 1936, as amended, and subpart G is authorized by section 306(C) of the RE Act of 1936, as amended.

The overall goal of subparts E and F is to allow Agency borrowers to prepay their RUS loan and the overall goal of subpart G is to refinance. Subpart E allows certain electric borrowers to prepay outstanding RUS Notes at the Discounted Present Value of the RUS Notes with private financing. Subpart F allows borrowers to prepay, with private financing or internally generated funds, outstanding RUS Notes evidencing electric loans at the Discounted Present Value of the RUS Note. Subpart G allows the borrower of an electric or telephone loan made by the FFB and guaranteed by RUS to prepay and refinance a loan or an advance on the loan, or any portion of the loan or advance, after meeting certain conditions using the procedures prescribed in the borrower's note.

Need and Use of the Information: The required documentation and information will be collected from electric and telecommunications program borrowers. The purpose of the information collected is to provide borrowers an opportunity to request prepayment of their notes and to determine that the borrower is qualified to prepay under the authorizing statues. The overall goal of subparts E and F is to allow RUS borrowers to prepay their RUS loan and the overall goal of subpart G is to refinance.

Description of Respondents: Business or other for-profit; not-for-profit institutions.

Number of Respondents: 38.

Frequency of Responses: Reporting: On occasion.

Total Burden Hours: 76.

Rural Utilities Service

Title: RUS Form 444, “Wholesale Power Contracts”.

OMB Control Number: 0572-0089.

Summary of Collection: The Rural Electrification Act of 1936 (RE Act) as amended (7 U.S.C. 901 et seq.), authorizes the Administrator of RUS to make and guarantee loans in the States and Territories of the United States that will enable rural consumers to obtain electric power. Section 4 of the RE Act (7 U.S.C. 904) authorizes the Administrator to establish terms and conditions of loans to determine that the security for the loan is reasonably adequate and that the loan will be repaid within the time agreed.

In response to the RE Act, rural consumers formed non-profit electric distribution cooperatives. Groups of these distribution cooperatives then banded together to form generation and transmission cooperatives (G&T's) that generate or purchase power and transmit the power to the distribution systems. For a RUS loan to a distribution system, a lien on the borrower's assets generally represents an adequate means to protect the Federal Government's security interest. However, since most G&T revenues flow from its distribution members, RUS requires as a condition of a loan or loan guarantee to a G&T that its distribution members enter into a long-term requirements wholesale power contract to purchase power from the G&T at rates that cover all the G&T's expenses, including debt service and margins.

Need and Use of the Information: To fulfill the purposes of the RE Act RUS will collect information to improve the credit quality and credit worthiness of loans and loan guarantees to G&T borrowers. RUS works closely with lending institutions that provide supplemental loan funds to borrowers. If the information were not collected, RUS could not determine whether Federal security interest would be adequately protected.

Description of Respondents: Not-for profit institutions.

Number of Respondents: 8.

Frequency of Responses: Reporting: Quarterly.

Total Burden Hours: 48.

Rural Utilities Service

Title: 7 CFR 1703, subparts D, E, F, and G, Distance Learning and Telemedicine Loan and Grant Program.

OMB Control Number: 0572-0096.

Summary of Collection: The Rural Utilities Service (RUS), an agency of the U.S. Department of Agriculture (USDA), is authorized by chapter 1 of subtitle D of title XXIII of the Food, Agriculture, Conservation, and Trade Act of 1990 (7 U.S.C. 950aaa et seq.) to provide financial assistance for the purpose of financing the construction of facilities and systems to provide telemedicine services and distance learning services in sparsely populated rural areas. Financial assistance provided under the Distance Learning and Telemedicine (DLT) Loan and Grant Program consists of grants, cost of money loans, or both. The purpose of the DLT Loan and Grant Program is to encourage and improve telemedicine services and distance learning services in rural areas through the use of telecommunications, computer networks, and related advanced technologies by students, teachers, medical professionals, and rural residents. Section 6102 of title VI of the Agriculture Improvement Act of 2018 (Pub. L. 115-334) amended 7 U.S.C. 950aaa et seq, by extending the term of the program to the year 2023. The Agency administers the DLT Loan and Grant Program through 7 CFR1734, subparts A, B, C, and D.

Need and Use of the Information: The various forms and narrative statements required are collected from eligible applicants that are public and private, for-profit and not-for-profit rural community facilities, schools, libraries, hospitals, and medical facilities. The purpose of this information is to determine such factors as: eligibility of the applicant; the specific nature of the proposed project; the purposes for which loan and grant funds will be used; project financial and technical feasibility; and compliance with the applicable laws and regulations.

Description of Respondents: Business or other for-profit; not-for-profit institutions.

Number of Respondents: 300.

Frequency of Responses: Reporting: On occasion.

Total Burden Hours: 17,814.

Rural Utility Service

Title: Seismic Safety of New Building Construction, 7 CFR 1792, subpart C.

OMB Control Number: 0572-0099.

Summary of Collection: Seismic hazards present a serious threat to people and their surroundings. These hazards exist in most of the United States, not just on the West Coast. Unlike hurricanes, times and location of earthquakes cannot be predicted; most earthquakes strike without warning and, if of substantial strength, strike with great destructive forces. To reduce risks to life and property from earthquakes, Congress enacted the Earthquake Hazards Reduction Act of 1977 (Pub. L. 95-124, 42 U.S.C. 7701 et seq.), and directed the establishment and maintenance of an effective earthquake reduction program. As a result, the National Earthquake Hazards Reduction Program (NEHRP) was established. The objectives of the NEHRP include the development of technologically and economically feasible design and construction methods to make both new and existing structures earthquake resistant, and the development and promotion of model building codes. 7 CFR part 1792, subpart C, identifies acceptable seismic standards which must be employed in new building construction funded by loans, grants, or guarantees made by the Rural Utility Service (RUS) or the Rural Telephone Bank (RTB) or through lien accommodations or subordinations approved by RUS or RTB.

Need And Use Of The Information: Borrowers and grant recipients must provide to RUS a written acknowledgment from a registered architect or engineer responsible for the designs of each applicable building stating that the seismic provisions to 7 CFR part 1792, subpart C will be used in the design of the building. RUS will use this information to: (1) clarify and inform the applicable borrowers and grant recipients about seismic safety requirements; (2) improve the effectiveness of all RUS programs; and (3) reduce the risk to life and property through the use of approved building codes aimed at providing seismic safety.

Description of Respondents: Not-for-profit institutions; business or other for-profit.

Number of Respondents: 10.

Frequency of Responses: Reporting: On occasion.

Total Burden Hours: 8.

Rural Utilities Service

Title: Lien Accommodations and Subordinations 7 CFR part 1717, subparts R and S.

OMB Control Number: 0572-0100.

Summary of Collection: The Rural Electrification Act of 1936 (The RE Act), as amended (7 U.S.C. 901 et seq.), authorizes and empowers the Administrator of RUS to make loans in the several United States and Territories of the United States for rural Electrification and the furnishing of electric energy to persons in rural areas who are not receiving central station service. The RE Act also authorizes and empowers the Administrator of RUS to provide financial assistance to borrowers for purposes provided in the RE Act by accommodating or subordinating loans made by the national Rural Utilities Cooperative Finance Corporation, the Federal Financing Bank, and other lending agencies. Title 7 CFR part 1717, subparts R & S sets forth policy and procedures to facilitate and support borrowers' efforts to obtain private sector financing of their capital needs, to allow borrowers greater flexibility in the management of their business affairs without compromising RUS loan security, and to reduce the cost to borrowers, in terms of time, expenses and paperwork, of obtaining lien accommodations and subordinations. The information required to be submitted is limited to necessary information that would allow the Agency to make a determination on the borrower's request to subordinate and accommodate their lien with other lenders.

Need and Use of the Information: RUS will use the information to determine an applicant's eligibility for a lien accommodation or lien subordination under the RE Act; facilitates an applicant's solicitation and acquisition of non-RUS loans as to converse available Government funds; monitor the compliance of borrowers with debt covenants and regulatory requirements in order to protect loan security; and subsequently to granting the lien accommodation or lien subordination, administer each so as to minimize its cost to the Government. If the information were not collected, RUS would not be able to accomplish its statutory goals.

Description of Respondents: Not-for-profit institutions; business or other for-profit.

Number of Respondents: 1.

Frequency of Responses: Reporting: On occasion.

Total Burden Hours: 19.

Rural Utilities Service

Title: 7 CFR 1778, Emergency and Imminent Community Water Assistance Grants.

OMB Control Number: 0572-0110.

Summary of Collection: The Rural Utilities Service (RUS) is requesting OMB clearance of the reporting requirements for 7 CFR part 1778, Emergency and Imminent Community Water Assistance Grants (ECWAG). The legislative authority for this program is under section 306A of the Consolidated Farm and Rural Development Act, (7 U.S.C. 1926(a)), as amended. RUS is authorized to make grants under section 306A of the Consolidated Farm and Rural Development Act (Act)(7 U.S.C. 1926(a)).

Administered by the RUS National Office and Rural Development (RD) State Offices, the ECWAG regulation is used to administer grants made to rural communities of 10,000 or less that are experiencing a significant decline in quantity or quality of water or are expecting such a decline to be imminent. The grants assist the communities in obtaining or maintaining adequate quantities of water, thereby, meeting the standards of the Safe Drinking Water Act (SDWA), (42 U.S.C. 300f, et seq.).

Under the ECWAG program, there are two statutory levels of grant limitations—$1,000,000 and $150,000. Grants not to exceed upper threshold may be awarded for projects alleviating significant declines in potable water quantity or quality. The funds can be used for construction of new wells, reservoirs, treatment plants, and other sources of water. Grants awards up to $150,000 may be made for projects that will remedy acute shortages or significant declines in quality or quantity of potable water in an existing system. The funds can be used for distribution waterline extensions, repairs or partial replacement on distribution waterlines, and operation and maintenance items on a distribution system. Grants awarded under the ECWAG program may be made for up to 100 percent of eligible project costs. At least 50 percent of grant funds are targeted to rural areas with populations not exceeding 3,000. Additionally, at least 70 percent of funds are to be used for projects addressing declines in the quantity or quality of water. The rural area's median household income must not exceed 100 percent of a State's non-metropolitan median household income.

Need and Use of the Information: RUS will collect the information from applicants applying for grants under 7 CFR 1778. The information is unique to each borrower and emergency situation. Applicants must demonstrate that there is an imminent emergency or that a decline occurred within 2 years of the date the application was filed with Rural Development.

Description of Respondents: State, Local or Tribal Government.

Number of Respondents: 409.

Frequency of Responses: Reporting: On occasion.

Total Burden Hours: 3,173.

Rural Utilities Service

Title: 7 CFR 1717 subpart D, Mergers and Consolidations of Electric Borrowers.

OMB Control Number: 0572-0114.

Summary of Collection: The Rural Utilities Service (RUS) is a credit agency of the U.S. Department of Agriculture. It makes mortgage loans and loan guarantees to finance electric, telecommunications, water and waste and water facilities in rural areas. Loan programs are managed in accordance with the Rural Electrification Act (RE Act) of 1936, 7 U.S.C. 901 et seq., as amended and as prescribed by the Office of Management and Budget (OMB) Circular A-129, Policies for Federal Credit Programs and Non-tax Receivable, states that agencies must base on a review of a loan application determine that an applicant complies with statutory, regulatory, and administrative eligibility requirements for loan assistance.

Need and Use of the Information: RUS will collect information to streamline procedures and allow borrowers the flexibility to meet new business challenges and opportunities. The information is necessary for RUS to conduct business with successor entity while protecting the security of Government loans and avoiding defaults and to grant merger approval when required.

Description of Respondents: Business or other for-profit.

Number of Respondents: 10.

Frequency of Responses: Reporting: On occasion.

Total Burden Hours: 140.

Rural Utilities Service

Title: 7 CFR part 1721, Extensions of Payments of Principal and Interest.

OMB Control Number: 0572-0123.

Summary of Collection: The Rural Utilities Service (RUS) electric program provides loans and loan guarantees to borrowers at interest rates and on terms that are more favorable than those generally available from the private sector. Procedures and conditions which borrowers may request extensions of the payment of principal and interest are authorized, as amended, in section 12 of the Rural Electrification Act of 1936, and section 236 of the “Disaster Relief Act of 1970 (Pub. L. 91-606), as amended by the Department of Agriculture Reorganization Act of 1994 (Pub. L. 103-354). As a result of obtaining federal financing, RUS borrowers receive economic benefits that exceed any direct economic costs associated with complying with (RUS) regulations and requirements.

Need and Use of the Information: The collection of information occurs only when the borrower requests an extension of principal and interest. Eligible purposes include financial hardship, energy resource conservation loans, renewable energy project, and contributions-in-aid of construction. These procedures are codified at 7 CFR part 1721, subpart B. The collections are made to provide needed benefits to borrowers while also maintaining the integrity of RUS loans and their repayment of taxpayer's monies.

Description of Respondents: Businesses or other for-profits; Not for-profit institutions.

Number of Respondents: 8.

Frequency of Responses: Reporting: On occasion.

Total Burden Hours: 61.

Rural Utilities Service

Title: Broadband Grant Program.

OMB Control Number: 0572-0127.

Summary of Collection: Congress has recognized the need to facilitate the deployment of broadband service to un-served rural areas. The provision to broadband transmission service is vital to the economic development, education, health, and safety of rural Americans.

The Consolidated Appropriations Act, 2004 (title III, Pub. L. 108-199, Stat.3), 7 CFR 1739 subpart A, as amended, authorizes the Rural Development, Rural Utilities Service (RUS) to administer the Community Connect Grant Program for the provision of broadband transmission service in rural America. Grant authority is utilized to deploy broadband infrastructure to extremely rural, lower income communities on a “community-oriented connectivity” basis.

Need and Use of the Information: RUS gives priority to rural areas that it believes have the greatest need for broadband transmission services. This broadband access is intended to promote economic development and provide enhanced educational and health care opportunities. RUS will provide financial assistance to eligible entities that are proposing to deploy broadband transmission service in rural communities where such service does not currently exist and who will connect the critical community facilities including the local schools, libraries, hospitals, police, fire and rescue services and who will operate a community center that provides free and open access to residents.

Description of Respondents: Business or other for-profit.

Number of Respondents: 73.

Frequency of Responses: Reporting; On occasion.

Total Burden Hours: 12,286.

Rural Utilities Service

Title: 7 CFR 1728, Electric Standards and Specifications for Materials and Construction.

OMB Control Number: 0572-0131.

Summary of Collection: The Rural Electrification Act of 1936, 7 U.S.C. 901 et seq., as amended, (RE Act) in Sec. 4 (7 U.S.C. 904) authorizes and empowers the USDA Rural Development, Rural Utilities Service (RUS or the Agency) Administrator to direct and coordinate the program to provide loans and loan guarantees to furnish electrification and improve electric energy service to persons in rural areas of the United States and Territories of the United States. The loan term may be up to 35 years and loans are secured by a first mortgage on the borrower's electric system. To assure loans made or guaranteed by RUS are adequately secured, used effectively, and for the intended purposes, the Agency has established standards and specifications for materials, equipment and the construction of electric systems. Utilization of standards and specifications for materials, equipment, and construction helps assure appropriate standards and specifications are maintained, loan security is not adversely affected, and loan and loan guarantee funds are used effectively for intended purposes.

RUS policy is established by 7 CFR part 1728 which provides that materials and equipment purchased by RUS electric borrowers or accepted as contractor-furnished material must conform to Agency standards and specifications where they have been established and, if included in Agency IP 202-1, “List of Materials Acceptable for Use on Systems of Rural Development Electrification Borrowers” (List of Materials), must be selected from that list or must have received technical acceptance from Rural Development.

Need and Use of the Information: Manufacturers submit certified data demonstrating product compliance with RUS specifications, usually in the form of laboratory test results, catalog pages, or drawings. RUS will evaluate the data to determine that the quality of the products are acceptable and that their use will not jeopardize loan security. The information is closely reviewed to be certain that test data; product dimensions and product material compositions fully comply with RUS technical standards and specifications that have been established for the particular product. Without this information, RUS has no means of determining the acceptability of products for use in the rural environment.

Description of Respondents: Business or other for-profit.

Number of Respondents: 38.

Frequency of Responses: Reporting: on occasion.

Total Burden Hours: 2,000.

Rural Utilities Service

Title: Special Evaluation Assistance for Rural Communities and Households Program (SEARCH).

OMB Control Number: 0572-0146.

Summary of Collection: The Food, Conservation and Energy Act of 2008, Public Law 110-246 (Farm Bill) amended section 306(a)(2) of the Consolidated Farm and Rural Development Act (CONACT) (7 U.S.C. 1926 (a)(2)). The amendment created a grant program to make Special Evaluation Assistance for Rural Communities and Households (SEARCH) Program grants. Under the SEARCH program, the Secretary may make predevelopment and planning grants to public or quasi-public agencies, organizations operated on a not-for-profit basis or Indian tribes on Federal and State reservations and other federally recognized Indian tribes. The grant recipients shall use the grant funds for feasibility studies, design assistance, and development of an application for financial assistance to financially distressed communities in rural areas with populations of 2,500 or fewer inhabitants for water and waste disposal projects as authorized in sections 306(a)(1), 306(a)(2) and 306(a)(24) of the CONACT.

Need and Use of the Information: Applicants applying for SEARCH grants must submit an application which includes an application form, various other forms, certifications, and supplemental information. Rural Utility Service will use the information collected from applicants, borrowers, and consultants to determine applicant eligibility, project feasibility, and the applicant's ability to meet the grant and regulatory requirements.

Failure to collect proper information could result in improper determinations of eligibility, improper use of funds, or hindrances in making grants authorized by the SEARCH program.

Description of Respondents: Not-for-profit institutions.

Number of Respondents: 88.

Frequency of Responses: Reporting: On occasion.

Total Burden Hours: 5,985.

Rural Utility Service

Title: New Equipment Contract (Form 395) for Telecommunications and Broadband Borrowers.

OMB Control Number: 0572-0149.

Summary of Collection: The Rural Utility Service (RUS) manages the Telecommunications loan program and the Rural Broadband program, to provide loans and loan guarantees to fund the cost of construction, improvement, or acquisition of facilities and equipment for the provision of broadband service in eligible rural communities. RUS has established the use of certain standardized forms for materials, equipment, and construction of electric and telecommunications systems. The use of standard forms, construction contracts, and procurement procedures help to assure that appropriate standards and specifications are maintained by the borrower in order to not adversely affect RUS's loan security and ensure that loan and loan guarantee funds are effectively used for the intended purpose(s).

Need and Use of the Information: This information is used to implement provisions of the Agency standard form of loan documents regarding the Awardee's purchase of materials and equipment and the construction of its telecommunications or broadband system by contract. This collection of information will be used by Agency Awardees and their contractors. In the Telecommunications industry, when a cooperative or company enters into contracts for services, some type of contract form is used. The Agency has developed the specific forms cleared with this package to be used by its Awardees when entering into contracts for goods or services.

Description of Respondents: Businesses or other for-profits.

Number of Respondents: 28.

Frequency of Responses: Reporting: On occasion.

Total Burden Hours: 114.

Levi S. Harrell,
Departmental Information Collection Clearance Officer.

[FR Doc. 2022-23699 Filed 10-31-22; 8:45 am]

BILLING CODE 3410-15-P